DEPARTMENT OF HOMELAND SECURITY

Coast Guard

[Docket No. USCG-2016-0122]

Merchant Mariner Medical Advisory Committee

AGENCY: Coast Guard, Department of Homeland Security.

ACTION: Notice of Federal Advisory Committee meeting.

SUMMARY: The Merchant Mariner Medical Advisory Committee and its working groups will meet to discuss matters relating to medical certification determinations for issuance of licenses, certificates of registry, merchant mariners' documents, medical standards and guidelines for the physical qualifications of operators of commercial vessels, medical examiner education, and medical research. The meetings will be open to the public. DATES: The Merchant Mariner Medical Advisory Committee and its working groups are scheduled to meet on Monday, March 14 and Tuesday, March 15, 2016, from 8 a.m. to 5:15 p.m. and 8 a.m. to 5 p.m. Please note that these meetings may adjourn early if the committee has completed its business.

ADDRESSES: The meetings will be held at the Crowley Maritime Corporation, 1st Floor Conference Room, 9487 Regency Square Blvd., Jacksonville, FL 32225 (http://www.crowley.com). For further information about the meeting facilities, please contact Ms. Becky Kelly at (904)727-4213.

Please be advised that all attendees are required to check-in to the visitor's booth located to the right of the main building entrance. All attendees will be required to provide a government-issued picture identification card in order to gain admittance to the building. For planning purposes, please notify the Merchant Mariner Medical Advisory Committee Alternate Designated Federal Officer of your attendance as soon as possible using the contact information provided in the FOR FURTHER INFORMATION CONTACT section of this notice.

For information on facilities or services for individuals with disabilities or to request special assistance at the meeting, contact the Alternate Designated Federal Officer as soon as possible.

To facilitate public participation, we are inviting public comment on the issues to be considered by the committee as listed in the “Agenda” section below. Written comments for distribution to committee members must be submitted no later than March 7, 2016, if you want the committee members to be able to review your comments before the meeting, and must be identified by docket number USCG-2016-0122. Written comments may be submitted using the Federal eRulemaking Portal: http://www.regulations.gov. If your material cannot be submitted using http://www.regulations.gov, contact the person in the Alternate Designated Federal Officer for alternate instructions.

Instructions: All submissions must include the words “Department of Homeland Security” and the docket number for this action. Comments received will be posted without alteration at http://www.regulations.gov, including any personal information provided. You may review a Privacy Act notice regarding the Federal Docket Management System in the March 24, 2005 issue of the Federal Register (70 FR 15086).

Docket: For access to the docket to read documents or comments related to this Notice, go to http://www.regulations.gov, insert USCG-2016-0122 in the “SEARCH” box, press Enter and then click on the item you wish to view.

A public comment period will be held on March 14, 2016, from approximately 11:30 a.m.-12 p.m. and March 15, 2016 from approximately 2:15 p.m.-2:45 p.m. Speakers are requested to limit their comments to 5 minutes. Please note that the public comment period may end before the time indicated, following the last call for comments. Additionally, public comment will be sought throughout the meeting as specific issues are discussed by the committee. Contact Lieutenant Ashley Holm as indicated below to register as a speaker.

FOR FURTHER INFORMATION CONTACT: Lieutenant Ashley Holm, Alternate Designated Federal Officer for the Merchant Mariner Medical Advisory Committee, 2703 Martin Luther King Jr. Ave SE., Stop (7501), telephone 202-372-1128, fax 202-372-4908 or Ashley.e.holm@uscg.mil.

SUPPLEMENTARY INFORMATION: Notice of this meeting is given under the Federal Advisory Committee Act, Title 5 United States Code Appendix. The Merchant Mariner Medical Advisory Committee Meeting is authorized by 46 United States Code 7115 and advises the Secretary on matters related to (a) medical certification determinations for issuance of licenses, certificates of registry, and merchant mariners' documents; (b) medical standards and guidelines for the physical qualifications of operators of commercial vessels; (c) medical examiner education; and (d) medical research.

Agenda

Day 1

The agenda for the March 14, 2016 meeting is as follows:

(1) Opening remarks from Crowley Maritime leadership.

(2) Opening remarks from Coast Guard leadership.

(3) Opening remarks from the Designated Federal Officer.

(4) Roll call of committee members and determination of a quorum.

(5) Review of last full committee meeting's minutes.

(6) Introduction of new task(s).

(7) Presentation and discussion on marine casualty investigations and data analysis (could lead to future tasking for the committee).

(8) Public comment period.

(9) Presentation on mariner wellness.

(10) Working Groups addressing the following task statements may meet to deliberate-

(a) Task statement 13, Mariner Occupational Health Risk Analysis. This is a joint task statement with the Merchant Marine Personnel Advisory Committee.

(b) Task statement(s) requesting recommendations on training content for a Designated Medical Examiner program.

(c) Task statement requesting recommendations on guidance to mariners on over the counter medications, energy drinks/pills, diet aids, and dietary supplements.

(d) The Committee may receive new task statements from the Coast Guard, review the information presented on each issue, deliberate and formulate recommendations for the Department's consideration.

(10) Adjournment of meeting.

Day 2

The agenda for the March 15, 2016 meeting is as follows:

(1) Continue work on Task Statements.

(2) Presentation from the Council on Chiropractic Education.

(3) Public comment period.

(4) By mid-afternoon, the Working Groups will report, and if applicable, make recommendations for the full committee to consider for presentation to the Coast Guard. The committee may vote on the working group's recommendations on this date. The public will have an opportunity to speak after each Working Group's Report before the full committee takes any action on each report.

(5) Closing remarks/plans for next meeting.

(6) Adjournment of Meeting.

Dated: February 11, 2016.
V.B. Gifford,
Captain, U.S. Coast Guard, Director of Inspections and Compliance.

[FR Doc. 2016-03348 Filed 2-17-16; 8:45 am]

BILLING CODE 9110-04-P